DEPARTMENT OF DEFENSE

Department of the Army, U.S. Army Corps of Engineers

33 CFR Part 209

[COE-2016-0016]

RIN 0710-AA72

Use of U.S. Army Corps of Engineers Reservoir Projects for Domestic, Municipal & Industrial Water Supply

AGENCY: Army Corps of Engineers, Department of the Army, DoD.

ACTION: Notice of proposed rulemaking; reopening of comment period.

SUMMARY: The U.S. Army Corps of Engineers (USACE) is reopening the public comment period for the notice of proposed rulemaking that appeared in the Federal Register of December 16, 2016.

DATES: The comment period for the proposed rule published December 16, 2016 at 81 FR 91556 and extended to August 18, 2017 at 82 FR 22452 is reopened until November 16, 2017.

ADDRESSES: You may submit comments, identified by docket number and/or Regulatory Information Number (RIN) and title, by any of the following methods:

Federal eRulemaking Portal: http://www.regulations.gov. Follow the instructions for submitting comments.

Email: WSRULE2016@usace.army.mil. Include the docket number, COE-2016-0016, in the subject line of the message.

Mail: U.S. Army Corps of Engineers, ATTN: CECC-L, U.S. Army Corps of Engineers, 441 G St NW., Washington, DC 20314.

Hand Delivery/Courier: Due to security requirements, we cannot receive comments by hand delivery or courier.

FOR FURTHER INFORMATION CONTACT: Technical information: Jim Fredericks, 503-808-3856. Legal information: Daniel Inkelas, 202-761-0345.

SUPPLEMENTARY INFORMATION: In response to requests from multiple parties, USACE is extending the time for public comments to November 16, 2017. The date listed in the DATES section by which comments must be received is changed from August 18, 2017 to November 16, 2017.

Dated: August 17, 2017.
David R. Cooper,
Chief Counsel, U.S. Army Corps of Engineers.

[FR Doc. 2017-17779 Filed 8-23-17; 8:45 am]

BILLING CODE 3720-58-P